DEPARTMENT OF LABOR

Office of the Secretary

Submission for OMB Review; Comment Request

May 14, 2002.

The Department of Labor (DOL) has submitted the following public information collection requests (ICRs) to the Office of Management and Budget (OMB) for review and approval in accordance with the Paperwork Reduction Act of 1995 (Pub. L. 104-13; 44 U.S.C. Chapter 35). A copy of each individual ICR, with applicable supporting documentation, may be obtained by calling the Department of Labor. To obtain documentation contact Marlene Howze at ((202) 693-4158 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Employment Standards Administration (ESA).

Title: 29 CFR Part 825, The Family and Medical Leave Act of 1993.

OMB Number: 1215-0181.

Affected Public: Individuals or households; Business or other for-profit; Not-for-profit institutions; Farms; State, Local or Tribal Government.

Frequency: On Occasion.

Number of Respondents: 4.7 million.

Number of Annual Responses: 10.107 million.

Estimated Time Per Response: 1 to 10 minutes.

Total Burden Hours: 718,529.

Total Annualized Capital/Startup Costs: $0.

Total Annual Costs (operating/maintaining systems or purchasing services): $0.

Description: The Family and Medical Leave Act of 1993 (FMLA), Public Law 103-3, 107 Stat. 6, 29 U.S.C. 2601, which became effective on August 5, 1993, requires private sector employers of 50 or more employees, and public agencies to provide up to 12 weeks of unpaid, job-protected leave during any 12-month period to “eligible” employees for certain family and medical reasons. The information collections involve third-party notifications between the employer and the employees. These requirements are necessary to ensure that both employers and employees are aware of and can exercise their rights and meet their respective obligations under FMLA. The record-keeping requirement are necessary in order for the Department of Labor to carry out its statutory obligation under section 106 of FMLA to investigate and ensure employer compliance. Without requiring employers to maintain these records, it would not be possible for the Department of Labor to determine compliance.

Ira L. Mills,
Departmental Clearance Officer.

[FR Doc. 02-12698 Filed 5-20-02; 8:45 am]

BILLING CODE 4510-27-M